DEPARTMENT OF COMMERCE

Foreign-Trade Zones Board

[S-105-2017]

Approval of Subzone Status; R.W. Smith & Co/TriMark USA, LLC; Lewisville, Texas

On July 11, 2017, the Executive Secretary of the Foreign-Trade Zones (FTZ) Board docketed an application submitted by the Metroplex International Trade Development Corporation, grantee of FTZ 168, requesting subzone status subject to the existing activation limit of FTZ 168, on behalf of R.W. Smith & Co/TriMark USA, LLC, in Lewisville, Texas.

The application was processed in accordance with the FTZ Act and Regulations, including notice in the Federal Register inviting public comment (82 FR 32530, July 14, 2017). The FTZ staff examiner reviewed the application and determined that it meets the criteria for approval. Pursuant to the authority delegated to the FTZ Board's Executive Secretary (15 CFR Sec. 400.36(f)), the application to establish Subzone 168C was approved on August 25, 2017, subject to the FTZ Act and the Board's regulations, including Section 400.13, and further subject to FTZ 168's 1,909-acre activation limit.

Dated: December 20, 2017.
Andrew McGilvray,
Executive Secretary.

[FR Doc. 2017-27883 Filed 12-26-17; 8:45 am]

BILLING CODE 3510-DS-P